DEPARTMENT OF THE INTERIOR

Fish and Wildlife Service

[FWS-R9-IA-2008-N0209; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by September 22, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq. ). Written data, comments, or requests for copies of these complete applications should be submitted to the Director (address above).

Applicant: U.S. Fish and Wildlife Service, National Fish and Wildlife Forensics Laboratory, Ashland, OR, PRT-053639.

The applicant requests renewal of a permit to export/re-export and import/re-import any endangered or threatened species for the explicit purpose of forensics activities which will directly or indirectly enhance the survival of the species in the wild. This notification covers activities to be conducted by the applicant over a five-year period.

Applicant: Metro Richmond Zoo, Moseley, VA, PRT-189831.

The applicant requests a permit to import two male captive-bred cheetahs (Acinonyx jubatus) from the De Wildt Cheetah Breeding Center, South Africa for the purpose of enhancement of the survival of the species.

Applicant: Cincinnati Zoo, Cincinnati, OH, PRT-185761.

The applicant requests a permit to import various biological samples from captive-held and wild Sumatran rhinoceros (Dicerorhinus sumatrensis) from the Sumatran Rhino Sanctuary, Indonesia for the purpose of scientific research and veterinary health evaluation. This notification covers activities to be conducted by the applicant over a five year period.

Applicant: Martin K. Slaugh, Salt Lake City, UT, PRT-189851.

The applicant requests a permit to import the sport-hunted trophy of one male bontebok (Damaliscus pygargus pygargus) culled from a captive herd maintained under the management program of the Republic of South Africa, for the purpose of enhancement of the survival of the species.

Dated: July 25, 2008.
Lisa J. Lierheimer,
Senior Permit Biologist, Branch of Permits, Division Management Authority.

[FR Doc. E8-19523 Filed 8-21-08; 8:45 am]

BILLING CODE 4310-55-P